DEPARTMENT OF VETERANS AFFAIRS

[OMB Control No. 2900-NEW (NCA Emerging Burial Survey Needs)]

Proposed Information Collection Activity: Proposed Collection; Comment Request

AGENCY: National Cemetery Administration, Department of Veterans Affairs.

ACTION: Notice.

SUMMARY: The National Cemetery Administration (NCA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. This notice solicits comments on information needed to determine Veteran's satisfaction with their current burial benefits within the National Cemetery System and what role, if any, new offerings might play in the future.

DATES: Written comments and recommendations on the proposed collection of information should be received on or before November 13, 2012.

ADDRESSES: Submit written comments on the collection of information through the Federal Docket Management System (FDMS) at www.Regulations.gov; or to Mechelle Powell, National Cemetery Administration (41D1), Department of Veterans Affairs, 810 Vermont Avenue NW., Washington, DC 20420; or email: mechelle.powell@va.gov. Please refer to “OMB Control No. 2900—NEW (NCA Emerging Burial Survey Needs)]” in any correspondence. During the comment period, comments may be viewed online through FDMS.

FOR FURTHER INFORMATION CONTACT: Mechelle Powell at (202) 461-4114 or Fax (202) 273-6695.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, NCA invites comments on: (1) Whether the proposed collection of information is necessary for the proper performance of NCA's functions, including whether the information will have practical utility; (2) the accuracy of NCA's estimate of the burden of the proposed collection of information; (3) ways to enhance the quality, utility, and clarity of the information to be collected; and (4) ways to minimize the burden of the collection of information on respondents, including through the use of automated collection techniques or the use of other forms of information technology.

Titles: NCA Emerging Burial Survey Needs.

a. 2012 Veterans Burial Benefits Survey.

b. Focus Group.

c. New and Emerging Burial Practices Study: Structured Interview Guide.

OMB Control Number: 2900—NEW (NCA Emerging Burial Survey Needs).

Type of Review: New collection.

Abstract: NCA has over the past several years made significant efforts to evaluate its burial program. In 2008, NCA completed the first comprehensive evaluation of its burial benefits program, which included a nation-wide survey of Veterans that, among other things, assessed the reasons that Veterans choose—or do not choose—burial in a national cemetery. Although the survey assessed what types of interment practices were currently available through NCA and evaluated Veterans' preferences for existing interment practices, it did not determine Veterans' preferences for interment options that were beyond what was currently offered by VA at that time. NCA now seeks to both update their understanding of the Veterans' satisfaction with NCA's current services, and to understand what additional internment options might be of interest to our Veterans and how they would view the inclusion of these options at the national cemeteries or other venues. The survey and focus groups will form the basis for review of various policies and the performance of follow-on research into specific emerging interment options.

Affected Public: Individuals or households.

Estimated Annual Burden:

a. 2012 Veterans Burial Benefits Survey—3,572 hours.

b. Focus Group—240 hours.

c. New and Emerging Burial Practices Study: Structured Interview Guide—75 hours.

Estimated Average Burden per Respondent:

a. 2012 Veterans Burial Benefits Survey—14 minutes.

b. Focus Group—90 minutes.

c. New and Emerging Burial Practices Study: Structured Interview Guide—90 minutes.

Frequency of Response: One time.

Estimated Number of Respondents:

a. 2012 Veterans Burial Benefits Survey—15,307.

b. Focus Group—160.

c. New and Emerging Burial Practices Study: Structured Interview Guide—50.

Dated: September 7, 2012.
By direction of the Secretary.
Denise McLamb,
Program Analyst, Enterprise Records Service.

[FR Doc. 2012-22493 Filed 9-12-12; 8:45 am]

BILLING CODE 8320-01-P